NUCLEAR REGULATORY COMMISSION

[Docket No. 72-31]

Yankee Atomic Electric Company Issuance of Environmental Assessment and Finding of No Significant Impact

The U.S. Nuclear Regulatory Commission (NRC or Commission) is considering issuance of an exemption, pursuant to 10 CFR 72.7, from the provisions of 10 CFR 72.212(a)(2), 72.212(b)(2)(i)(A), and 72.214 to Yankee Atomic Electric Company (YAEC). The requested exemption would allow YAEC to deviate from the requirements of Certificate of Compliance 1025 (the Certificate), Appendix A, Technical Specifications (TS), Items 3.1.5, Canister Maximum Time in Vacuum Drying, and 3.1.6, Maximum Time in Transfer Cask. The exemption would allow YAEC to use extended operating times in Limiting Condition for Operation (LCO) 3.1.5 and 3.1.6 for the fuel loading campaign at Yankee Nuclear Power Station (YNPS) in Rowe, Massachusetts.

Environmental Assessment (EA)

Identification of Proposed: By letter dated April 3, 2001, as supplemented on June 6, 2001, YAEC requested an exemption from the requirements of 10 CFR 72.212(a)(2), 72.212(b)(2)(i)(A), and 72.214 to deviate from the requirements of Certificate of Compliance 1025, Appendix A, Items LCO 3.1.5 and 3.1.6. YAEC is a general licensee, authorized by NRC to use spent fuel storage casks approved under 10 CFR Part 72, Subpart K.

YAEC plans to use the NAC-MPC cask system to store spent nuclear fuel, generated at YNPS, at an independent spent fuel storage installation (ISFSI) located in Rowe, Massachusetts, on the YNPS site. The YNPS ISFSI has been constructed for interim dry storage of spent nuclear fuel.

By exempting YAEC from 10 CFR 72.212(a)(2), 72.212(b)(2)(i)(A), and 72.214, YAEC will be authorized to extend loaded canister vacuum drying and the time spent fuel is in the transfer cask for canister heat loads that are lower than the design basis heat load.

The time duration from completion of draining the CANISTER through completion of vacuum dryness testing and the introduction of helium backfill shall not exceed the time shown for the specified heat loads:

Total heat loads (L)(kW) | Time limit (hours)
10.5 < L ≤ 12.5 | 38
8.5 < L ≤ 10.5 | 48
6.5 < L ≤ 8.5 | 58
4.5 < L ≤ 6.5 | 83
L ≤ 4.5 | Not Limited

The time duration from end of external forced air or in-pool cooling of the CANISTER through completion of vacuum dryness testing and the introduction of helium backfill shall not exceed the time shown for the specified heat loads:

Total heat loads (L)(kW) | Time limit (hours): Forced air | Time limit (hours): In-pool
10.5 < L ≤ 12.5 | 10 | 10
8.5 < L ≤ 10.5 | 12 | 12
6.5 < L ≤ 8.5 | 16 | 16
4.5 < L ≤ 6.5 | 40 | 40

The time duration from the introduction of helium backfill of the CANISTER through completion of the CANISTER transfer operation from the TRANSFER CASK to the CONCRETE CASK is not limited.

The specifications above would be in lieu of those in the current Certificate of Compliance No. 1025, Rev. 0, Appendix A, LCO 3.1.5 and 3.1.6. The proposed action before the Commission is whether to grant this exemption under 10 CFR 72.7.

On September 9, 2000, the cask designer, NAC International (NAC), submitted to NRC an application to amend Certificate of Compliance 1025. The requested amendment includes the same revisions to LCO 3.1.5 and 3.1.6 in Appendix A to the Certificate as requested in this exemption. The NRC staff has reviewed the application and determined that extending operating times in TS LCO 3.1.5 and 3.1.6 would have minimal impact on the design basis and would not pose a threat to public health and safety.

Need for the Proposed Action: The revised LCO 3.1.5 and 3.1.6 increase TS times, which are likely to reduce the frequency of entering LCO action statements, thus, reducing radiation doses to workers. The current TS LCO 3.1.5 and 3.1.6 time limits are based on canisters with maximum heat load and the probability for entering LCO action statements will significantly increase for canisters that are lower than the design basis heat load. If action statements are entered as a result of TS requirements without a safety significance, workers will be exposed to low radiation fields for longer periods of time. This would not be consistent with As Low As Reasonably Achievable (ALARA) practices. Workers should be able to conduct loading operations without facing unnecessary time/schedule pressure with sufficient operational flexibility. Unless the exemption is granted or the Certificate is amended, the TS LCO 3.1.5 and 3.1.6 action statements will likely be unnecessarily entered, resulting in additional radiation doses to workers. Because the 10 CFR Part 72 rulemaking to amend the Certificate will not be completed prior to the date that YNPS plans to begin loading fuel into the NAC-MPC cask systems, the NRC is proposing to grant this exemption based on the staff's technical review of information submitted by YAEC and NAC.

Environmental Impacts of the Proposed Action: It has already been determined by the Commission that spent fuel can be stored safely and without significant environmental impact at an onsite ISFSI in the NAC-MPC cask system (65 FR 12444, dated March 9, 2000). Extending the TS times will not increase the probability or consequences of accidents. No changes have been requested to the types or quantities of any radiological effluents that may be released offsite, and there is no significant increase in occupational or public radiation exposure. Occupational radiation exposure will be decreased by the avoidance of unnecessarily entering the action statements in LCO 3.1.5 and 3.1.6. There are no significant radiological environmental impacts associated with the proposed action.

Alternative to the Proposed Action: Since there is no significant environmental impact associated with the proposed action, alternatives with equal or greater environmental impact are not evaluated. The alternative to the proposed action would be to deny approval of the exemption and use the TS times in the current Certificate. Denial of the exemption could potentially lead into unnecessarily entering the TS LCO action statements 3.1.5 and 3.1.6 resulting in increased radiation doses to workers.

Agencies and Persons Consulted: On June 22, 2001, Mr. Jim Muckerhide, Nuclear Engineer, Nuclear Safety, of Massachusetts Emergency Management Agency was contacted about the Environmental Assessment for the proposed action and had no comments.

Finding of No Significant Impact

The environmental impacts of the proposed action have been reviewed in accordance with the requirements set forth in 10 CFR part 51. Based upon the foregoing EA, the Commission finds that the proposed action of granting an exemption from 10 CFR 72.212(a)(2), 72.212(b)(2)(i)(A), and 72.214 so that YAEC may use revised TS time at YNPS ISFSI will not significantly impact the quality of the human environment. Accordingly, the Commission has determined not to prepare an environmental impact statement for the proposed exemption.

The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by e-mail to pdr@nrc.gov.

Dated at Rockville, Maryland this 12th day of July 2001.
For the Nuclear Regulatory Commission
E. William Brach,
Director Spent Fuel Project Office, Office of Nuclear Material Safety and Safeguards.

[FR Doc. 01-18176 Filed 7-19-01; 8:45 am]

BILLING CODE 7590-01-P